DEPARTMENT OF TRANSPORTATION

Surface Transportation Board

[STB Finance Docket No. 34014]

Canadian National Railway Company—Trackage Rights Exemption-Bangor and Aroostook Railroad Company and Van Buren Bridge Company

Bangor and Aroostook Railroad Company (BAR) and Van Buren Bridge Company (VBBC), pursuant to a written trackage rights agreement to be entered into between BAR, VBBC and Canadian National Railway Company (CNR), will grant limited local trackage rights to CNR over BAR's track between milepost 0.0 at Madawaska, ME, and milepost 22.72 at Canadian Junction, ME, and over VBBC's track between milepost 0.0 at Canadian Junction and milepost 0.31 at the United States-Canada border, a total distance of approximately 23.03 miles. CNR will also acquire trackage rights over a short distance of VBBC's line in Canada to reach a connection with an existing CNR line in St. Leonard, New Brunswick, Canada.¹

¹ CNR's acquisition of trackage rights over VBBC's line in Canada is not subject to the Board's jurisdiction.

The transaction is scheduled to be consummated on or shortly after March 14, 2001.

This transaction is related to a simultaneously filed notice of exemption in STB Finance Docket No. 34015, Waterloo Railway Company—Acquisition Exemption—Bangor and Aroostook Railroad Company and Van Buren Bridge Company, wherein Waterloo Railway Company would acquire from BAR and VBBC, pursuant to a negotiated agreement the parties were in the process of executing, a nonexclusive freight operating easement over the same 23.03 miles of rail line.

The trackage rights will allow CNR to directly access a specified shipper in Madawaska, thus providing that shipper with enhanced rail service options.

CNR agrees to, and affected United States employees will be protected by, imposition of the employee conditions established in Norfolk and Western Ry. Co.—Trackage Rights—BN, 354 I.C.C. 605 (1978), as modified in Mendocino Coast Ry., Inc.-Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34014, must be filed with the Surface Transportation Board, Office of the Secretary, Case Control Unit, 1925 K Street, NW., Washington, DC 20423-0001. In addition, a copy of each pleading must be served on William C. Sippel, Esq., Fletcher & Sippel LLC, Two Prudential Plaza, Suite 3125, 180 North Stetson Avenue, Chicago, IL 60601-6721.

Board decisions and notices are available on our website at http://www.stb.dot.gov.

Decided: March 14, 2001.
By the Board, David M. Konschnik, Director, Office of Proceedings.
Vernon A. Williams,
Secretary.

[FR Doc. 01-7020 Filed 3-20-01; 8:45 am]

BILLING CODE 4915-00-P